NUCLEAR REGULATORY COMMISSION

[Docket Nos. 40-8794-MLA, 40-8778-MLA, ASLBP No. 99-769-08-MLA]

Atomic Safety and Licensing Board Panel; In the matter of: Molycorp, Inc., Washington, Pennsylvania; Temporary Storage of Decommissioning Wastes; Notice of Hearing

April 26, 2000.

This proceeding involves a proposed amendment by Molycorp, Inc. to its Source Materials License No. SMB-1393, to authorize temporary storage (5-10 years) of decommissioning wastes emanating from the Molycorp, Inc. facility in York, Pennsylvania, at the Molycorp facility in Washington, Pennsylvania. The proposal under review was submitted to the Nuclear Regulatory Commission on February 8, 1996, and would authorize storage of wastes from the former rare earth processing facility (License No. SMB-1408) at York, Pennsylvania, consisting of decommissioning waste soils containing thorium-232 and uranium-238.

Notice is hereby given that, by Memorandum and Order, LBP-00-10, 51 NRC _ (April 11, 2000) (as amended by an Errata dated April 19, 2000), the Presiding Officer has granted the requests for a hearing submitted by Canton Township, Pennsylvania, and the City of Washington, Pennsylvania. Parties to this proceeding are the Licensee, Molycorp, Inc., Canton Township and the City of Washington, Pennsylvania, Intervenors. (The Staff of the Nuclear Regulatory Commission has elected not to participate in this proceeding.)

This proceeding will be conducted under the Commission's informal hearing procedures set forth in 10 CFR Part 2, Subpart L. In response to a Notice of Opportunity for Hearing, published at 64 FR 31021 (June 9, 1999), Canton Township and the City of Washington each submitted timely hearing requests. Administrative Judge Charles Bechhoefer has been designated Presiding Officer and, pursuant to 10 CFR 2.722 and 2.1209, Administrative Judge Richard F. Cole has been appointed as Special Assistant to assist the Presiding Officer in taking evidence and preparing a suitable record for review. 64 FR 39176 (July 21, 1999); id. at 55785 (October 14, 1999).

During the course of this proceeding, the Presiding Officer, pursuant to 10 CFR 2.1211(a), will entertain limited appearance statements from any member of the public who is not a party to the proceeding, for the purpose of stating his or her views on the issues involved in this proceeding. Although these statements are not evidence and do not become part of the decisional record, they may assist the Presiding Officer and parties in their consideration of matters at issue in this proceeding. Limited appearance statements should be made in writing. If the Presiding Officer conducts an oral argument or in-person prehearing conference, the Presiding Officer may at his discretion hear oral statements, at a time and location yet to be determined. Written statements, and requests to make oral statements, should be submitted to the Office of the Secretary, Rulemaking and Adjudications Staff, U.S. Nuclear Regulatory Commission, Washington, D.C. 20555. A copy of such statement or request should also be served on the Presiding Officer, T-3F23, U.S. Nuclear Regulatory Commission, Washington, D.C. 20555, or CXB2@nrc.gov.

Documents related to this proceeding, issued prior to December 1, 1999, are available in print form for public inspection at the Commission's Public Document Room (PDR), 2120 L St., NW, Washington, D.C. Documents issued subsequent to November 1, 1999 are available electronically through the Agencywide Documents Access and Management System (ADAMS), with access to the public through NRC's Internet Web site (Public Electronic Reading Room Link, <http://www.nrc.gov/NRC/ADAMS/index.html>). The PDR and many public libraries have terminals for public access to the Internet.

Rockville, Maryland, April 26, 2000.
Charles Bechhoefer,
Presiding Officer, Administrative Judge.

[FR Doc. 00-10884 Filed 5-1-00; 8:45 am]

BILLING CODE 7590-01-P